GENERAL SERVICES ADMINISTRATION

[OMB Control No. 3090-0292; Docket No. 2020-0001; Sequence No. 2]

Information Collection; FFATA Subaward and Executive Compensation Reporting Requirements

AGENCY: Office of the Integrated Award Environment, General Services Administration (GSA).

ACTION: Notice of request for comments regarding an extension to an existing OMB information collection.

SUMMARY: Under the provisions of the Paperwork Reduction Act of 1995, the Regulatory Secretariat Division will be submitting to the Office of Management and Budget (OMB) a request to review and approve a renewal of the currently approved information collection requirement regarding FFATA Subaward and Executive Compensation Reporting Requirements.

DATES: Submit comments on or before October 26, 2020.

ADDRESSES: Submit comments regarding this burden estimate or any other aspect of this collection of information, including suggestions for reducing this burden to GSA via http://www.regulations.gov. Submit comments via the Federal eRulemaking portal by searching the OMB control number 3090-0292. Select the link “Comment Now” that corresponds with “Information Collection 3090-0292, FFATA Subaward and Executive Compensation Reporting Requirements”. Follow the instructions provided on the screen. Please include your name, company name (if any), and “Information Collection 3090-0292, FFATA Subaward and Executive Compensation Reporting Requirements” on your attached document.

If your comment cannot be submitted using regulations.gov, call or email the points of contact in the FOR FURTHER INFORMATION CONTACT section of this document for alternate instructions.

Instructions: Please submit comments only and cite Information Collection 3090-0292, FFATA Subaward and Executive Compensation Reporting Requirements, in all correspondence related to this collection. Comments received generally will be posted without change to regulations.gov, including any personal and/or business confidential information provided. To confirm receipt of your comment(s), please check regulations.gov, approximately two-to-three days after submission to verify posting.

FOR FURTHER INFORMATION CONTACT: Nancy Goode, Director, Office of Stakeholder Engagement, Office of the Integrated Award Environment, GSA, at telephone number 703-605-2175; or via email at nancy.goode@gsa.gov.

SUPPLEMENTARY INFORMATION:

A. Purpose

The Federal Funding Accountability and Transparency Act (Pub. L. 109-282, as amended by section 6202(a) of Pub. L. 110-252), known as FFATA or the Transparency Act requires information disclosure of entities receiving Federal financial assistance through Federal awards such as Federal contracts, sub-contracts, grants and sub-grants, FFATA 2(a),(2),(i),(ii). Beginning October 1, 2010, the currently approved Paperwork Reduction Act submission directed compliance with the Transparency Act to report prime and first-tier sub-award data. Specifically, Federal agencies and prime awardees of grants were to ensure disclosure of executive compensation of both prime and subawardees and sub-award data pursuant to the Transparency Act. This information collection requires reporting of only the information enumerated under the Transparency Act.

B. Annual Reporting Burden

Sub-award Responses: 107,614.

Hours per Response: 1.

Total Burden Hours: 107,614.

Executive Compensation Responses: 41,298.

Hours per Response: 1.

Total Burden Hours: 41,298.

Total Annual Burden Hours: 148,912.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW, Washington, DC 20405, telephone 202-501-4755. Please cite OMB Control No. 3090-0292, FFATA Subaward and Executive Compensation Reporting Requirements, in all correspondence.

Beth Anne Killoran,
Chief Information Officer, General Services Administration.

[FR Doc. 2020-18613 Filed 8-24-20; 8:45 am]

BILLING CODE 6820-WY-P